DEPARTMENT OF TRANSPORTATION

Federal Aviation Administration

14 CFR Part 71

[Docket No. FAA-2004-18824; Airspace Docket No. 04-ACE-50]

Modification of Class D Airspace; and Modification of Class E Airspace; Joplin, MO

AGENCY: Federal Aviation Administration (FAA), DOT.

ACTION: Direct final rule; request for comments.

SUMMARY: This action amends Title 14 Code of Federal Regulations, part 71 (14 CFR 71) by revising Class D and Class E airspace areas at Joplin, MO. A review of the controlled airspace areas at Joplin, MO revealed noncompliance with criteria for diverse departures from Joplin Regional Airport. The review also identified other discrepancies in the legal descriptions for the Joplin, MO Class E airspace areas. The intended effect of this rule is to provide controlled airspace of appropriate dimensions to protect aircraft departing from and executing Standard Instrument Approach Procedures (SIAPs) to Joplin Regional Airport. It also corrects discrepancies in the legal descriptions of Joplin, MO Class D and Class E airspace areas and brings the airspace areas and legal descriptions into compliance with FAA Orders.

DATES: This direct final rule is effective on 0901 UTC, January 20, 2005. Comments for inclusion in the Rules Docket must be received on or before November 8, 2004.

ADDRESSES: Send comments on this proposal to the Docket Management System, U.S. Department of Transportation, Room Plaza 401, 400 Seventh Street, SW., Washington, DC 20590-0001. You must identify the docket number FAA-2004-18824/Airspace Docket No. 04-ACE-50, at the beginning of your comments. You may also submit comments on the Internet at http://dms.dot.gov. You may review the public docket containing the proposal, any comment received, and any final disposition in person in the Dockets Office between 9 a.m. and 5 p.m., Monday through Friday, except Federal holidays. The Docket Office (telephone 1-800-647-5527) is on the plaza level of the Department of Transportation NASSIF Building at the above address.

FOR FURTHER INFORMATION CONTACT: Brenda Mumper, Air Traffic Division, Airspace Branch, ACE-520A, DOT Regional Headquarters Building, Federal Aviation Administration, 901 Locust, Kansas City, MO 64106; telephone: (816) 329-2524.

SUPPLEMENTARY INFORMATION: This amendment to 14 CFR 71 modifies the Class D airspace area, the Class E airspace area designated as a surface area and the Class E airspace area extending upward from 700 feet above the surface at Joplin, MO. An examination of controlled airspace for Joplin, MO revealed that the Class D airspace area and the Class E airspace area designated as a surface area do not comply with airspace requirements for diverse departures from Joplin Regional Airport as set forth in FAA Order 7400.2E, Procedures for Handling Airspace Matters. The examination also revealed that the dimensions and descriptions of extensions to the Class E airspace area extending upward from 700 feet above the surface do not comply with FAA Order 8260.19C, Flight Procedures and Airspace.

This action expands the Joplin, MO Class D and Class E airspace area designated as a surface area from a 4.2-mile to a 4.3-mile radius of Joplin Regional Airport. It also defines the centerline of the northwest extension to the Class E airspace area extending upward from 700 feet above the surface in relation to the 318° bearing from LUNNS LOM, decreases the width of this extension from 2.6 to 1.9 miles each side of centerline and decreases the length from 7.4 to 7 miles from LUNNS LOM. Additionally, the southeast extension to the Class E airspace area extending upward from 700 feet above the surface is no longer required and is deleted from the legal description.

These modifications provide controlled airspace of appropriate dimensions to protect aircraft departing from the executing SIAPs to Joplin Regional Airport and bring the legal descriptions of the Joplin, MO Class D and Class E airspace areas into compliance with FAA Orders 7400.2E and 8260.19C. Class D airspace areas are published in Paragraph 5000 of FAA Order 7400.9M, dated August 30, 2004, and effective September 16, 2004, which is incorporated by reference in 14 CFR 71.1. Class E airspace areas designated as surface areas and Class E airspace areas extending upward from 700 feet or more above the surface of the earth are published in Paragraphs 6002 and 6005 respectively of the same FAA Order. The Class D and Class E airspace designations listed in this document will be published subsequently in the Order.

The Direct Final Rule Procedure

The FAA anticipates that this regulation will not result in adverse or negative comment and, therefore, is issuing it as a direct final rule. Previous actions of this nature have not been controversial and have not resulted in adverse comments or objections. Unless a written adverse or negative comment, or a written notice of intent to submit an adverse or negative comment is received within the comment period, the regulations will become effective on the date specified above. After the close of the comment period, the FAA will publish a document in the Federal Register indicating that no adverse or negative comments were received and confirming the data on which the final rule will become effective. If the FAA does receive, within the comment period, an adverse or negative comment, or written notice of intent to submit such a comment, a document withdrawing the direct final rule will be published in the Federal Register, and a notice of proposed rulemaking may be published with a new comment period.

Comments Invited

Interested parties are invited to participate in this rulemaking by submiting such written data, views, or arguments, as they may desire. Comments that provide the factual basis supporting the views and suggestions presented are particularly helpful in developing reasoned regulatory decisions on the proposal. Comments are specifically invited to the overall regulatory, aeronautical, economic, environmental, and energy-related aspects of the proposal. Communications should identify both docket numbers and be submitted in triplicate to the address listed above. Commenters wishing the FAA to acknowledge receipt of their comments on this notice must submit with those comments a self-addressed, stamped postcard on which the following statement is made: “Comments to Docket No. FAA-2004-18824/Airspace Docket No. 04-ACE-50.” The postcard will be date/time stamped and returned to commenter.

Agency Findings

The regulations adopted herein will not have a substantial direct effect on the States, on the relationship between the national Government and the States, or on the distribution of power and responsibilities among the various levels of government. Therefore, it is determined that this final rule does not have federalism implications under Executive Order # 13132.

The FAA has determined that this regulation is noncontroversial and unlikely to result in adverse or negative comments. For the reasons discussed in the preamble, I certify that this regulation: (1) Is not a “significant regulatory action” under Executive Order 12866; (2) is not a “significant rule” under Department of Transportation (DOT) Regulatory Policies and Procedures (44 FR 11034, February 26, 1979); and (3) if promulgated, will not have a significant economic impact, positive or negative, on a substantial number of small entities under the criteria of the Regulatory Flexibility Act.

List of Subjects 14 CFR Part 71

Airspace, Incorporation by reference, Navigation (air).

Adoption of the Amendment

Accordingly, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9M, dated August 30, 2004, and effective September 16, 2004, is amended as follows:

Paragraph 5000 Class D Airspace.

* * * * *

ACE MO D Joplin, MO

Joplin Regional Airport, MO

(Lat. 37°09′07″ N., long. 94°29′54″ W.)

That airspace extending upward from the surface to and including 3,500 feet MSL within a 4.3-mile radius of Joplin Regional Airport. This Class D airspace area is effective during the specific dates and times established in advance by a Notice to Airmen. The effective date and time will thereafter be continuously published in the Airport/Facility Directory.

* * * * *

Paragraph 6002 Class E Airspace Designated as Surface Areas.

* * * * *

ACE MO E2 Joplin, MO

Joplin Regional Airport, MO

Lat. 37°09′07″ N., long. 94°29′54″ W.)

Within a 4.3-mile radius of Joplin Regional Airport. This Class E airspace area is effective during the specific dates and times established in advance by a Notice to Airmen. The effective date and time will thereafter be continuously published in the Airport/Facility Directory.

* * * * *

Paragraph 6005 Class E airspace areas extending upward from 700 feet or more above the surface of the earth.

* * * * *

ACE MO E5 Joplin, MO

Joplin regional Airport, MO

(Lat. 37°09′07″ N., long. 94°29′54″ W.)

LUNNS LOM

(Lat. 37°12′11″ N., long 94°33′31″ W.)

That airspace extending upward from 700 feet above the surface within a 6.8-mile radius of Joplin Regional Airport and within 1.9 miles each side of the 318° bearing from the LUNNS LOM extending from the 6.8-mile radius of the airport to 7 miles northwest of the LOM.

* * * * *

Issued in Kansas City, MO, on September 17, 2004.
Paul J. Sheridan,
Manager, Air Traffic Division, Central Region.

[FR Doc. 04-21862 Filed 9-28-04; 8:45 am]

BILLING CODE 4910-13-M